DEPARTMENT OF THE INTERIOR

National Park Service

National Register of Historic Places; Notification of Pending Nominations

Nominations for the following properties being considered for listing in the National Register were received by the National Park Service before August 9, 2003. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, 202-371-6447. Written or faxed comments should be submitted by September 12, 2003.

Carol D. Shull,
Keeper of the National Register of Historic Places.

DISTRICT OF COLUMBIA

District of Columbia

Immaculate Conception Church, 1315 8th St., NW., Washington, 03000946.

Seventh Street Savings Bank (Banks and Financial Institutions MPS), 1300 7th St., NW., Washington, 03000944.

United Brotherhood of Carpenters and Joiners—Local 132, 1010 10th St., NW., 1001 K St. NW., Washington, 03000945.

FLORIDA

Manatee County

Terra Ceia Village Improvement Association Hall (Clubhouses of Florida's Woman's Clubs MPS), 1505 Center Rd., Terra Ceia, 03000942.

Pinellas County

Pass-A-Grille Historic District (Boundary Increase), Pass-a-Grille Way, 1st Ave., Gulf Way, Sunset Way, 32 Ave., St. Pete Beach, 03000943.

ILLINOIS

Cook County

Bersbach, Alfred, House, 1120 Michigan Ave., Wilmette, 03000941.

NORTH CAROLINA

Pitt County

Greenville Commercial Historic District: Roughly bounded by West Third, South Evans and East and West Fifth Sts. Greenville, 03000419.

A request for removal has been made for the following resource:

SOUTH DAKOTA

Yankton County

Yankton County Courthouse, 3rd St. and Broadway, Yankton, 76001759.

[FR Doc. 03-21970 Filed 8-27-03; 8:45 am]

BILLING CODE 4312-51-P